DEPARTMENT OF HEALTH AND HUMAN SERVICES

National Institutes of Health

Submission for OMB Review; 30-Day Comment Request; NIH Office of Intramural Training & Education Application (OD)

SUMMARY: Under the provisions of section 3507(a)(1)(D) of the Paperwork Reduction Act of 1995, the National Institutes of Health (NIH) has submitted to the Office of Management and Budget (OMB) a request for review and approval of the information collection listed below. This proposed information collection was previously published in the Federal Register on November 10, 2015, page 69685 and allowed 60-days for public comment. No public comments were received. The purpose of this notice is to allow an additional 30 days for public comment. The Office of the Director (OD), NIH, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

FOR FURTHER INFORMATION CONTACT: To obtain a copy of the data collection plans and instruments or request more information on the proposed project contact: Dr. Patricia Wagner, Office of Intramural Training & Education (OITE), 2 Center Drive; Building 2/Room 2E06; Bethesda, Maryland 20892, or call non-toll-free number 240-476-3619, or Email your request, including your address to: wagnerpa@od.nih.gov. Formal requests for additional plans and instruments must be requested in writing.

Proposed Collection: NIH Office of Intramural Training & Education Application, Revision, 0925-0299 Expiration Date: 3/31/2016, Office of Intramural Training & Education (OITE), Office of the Director (OD), National Institutes of Health (NIH).

The Office of Intramural Training & Education (OITE) administers a variety of programs and initiatives to recruit pre-college through pre-doctoral educational level individuals into the National Institutes of Health Intramural Research Program (NIH-IRP) to facilitate their development into future biomedical scientists. The proposed information collection is necessary in order to determine the eligibility and quality of potential awardees for traineeships in these programs. The applications for admission consideration include key areas such as: Personal information, ability to meet eligibility criteria, contact information, university assigned student identification number, training program selection, scientific discipline interests, educational history, standardized examination scores, reference information, resume components, employment history, employment interests, dissertation research details, letters of recommendation, financial aid history, sensitive data, travel information, as well as feedback questions about interviews and application submission experiences. Sensitive data collected on the applicants: Race, gender, ethnicity, relatives at the NIH, and recruitment method, are made available only to OITE staff members or in aggregate form to select NIH offices and are not used by the admission committees for admission consideration.

OMB approval is requested for 3 years. There are no costs to respondents other than their time. The total estimated annualized burden hours are 16,332.55.

Estimated Annualized Burden Hours
Type of respondent | Number of respondents | Number of responses annually per respondent | Total annual burden hours | Total annual burden hours
Summer Internship Program—Application | 7,525 | 1 | 1 | 7,525
Amgen Scholars at NIH Program—Supplemental Application | 300 | 1 | 3/60 | 15
High School Scientific Training & Enrichment Program—Contact Information | 40 | 1 | 3/60 | 2
NIH Visit Week—Application | 30 | 1 | 1 | 30
Undergraduate Scholarship Program (UGSP)—Application | 150 | 1 | 1 | 150
Undergraduate Scholarship Program—Certificate of Exceptional Financial Need (Completed by Applicant) | 300 | 1 | 3/60 | 15
Undergraduate Scholarship Program—Certificate of Exceptional Financial Need (Completed by University Staff) | 300 | 1 | 15/60 | 75
Undergraduate Scholarship Program (UGSP)—Renewal Application | 15 | 1 | 1 | 15
Undergraduate Scholarship Program—Deferment Form (Completed by UGSP Scholar) | 40 | 1 | 3/60 | 2
Undergraduate Scholarship Program—Deferment Form (Completed by University Staff) | 40 | 1 | 15/60 | 10
Undergraduate Scholarship Program—Scholar Contract | 30 | 1 | 10/60 | 5
Undergraduate Scholarship Program—Evaluation of Scholar PayBack Period | 50 | 1 | 15/60 | 13
Postbaccalaureate/Technical Training Program—Application | 2,050 | 1 | 1 | 2,050
NIH Academy Training Program—Supplemental Application | 225 | 1 | 1 | 225
Graduate Partnerships Program—Application | 275 | 1 | 1 | 275
Graduate Partnerships Program—Registration | 150 | 1 | 1 | 150
Graduate Partnerships Program—Interview Experience Survey (60% Response Rate) | 30 | 1 | 10/60 | 5
Evaluation—Recommendation Letters for Prospective Students | 22,570 | 1 | 15/60 | 5,643
Survey—Optional Statistics (Majority of Programs; 25% Response Rate) | 2,571 | 1 | 3/60 | 129
Totals | 36,691 | 36,691 | N/A | 16,334

Dated: May 3, 2016.
Lawrence A. Tabak,
Deputy Director, National Institutes of Health.

[FR Doc. 2016-10994 Filed 5-9-16; 8:45 am]

BILLING CODE 4140-01-P